DEPARTMENT OF TRANSPORTATION

Federal Aviation Administration

[Summary Notice No. PE-2000-59]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption part 11 of Title 14, Code of Federal Regulations (14 CFR), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before November 8, 2000.

ADDRESSES: Send comments on any petition in triplicate to: Federal Aviation Administration, Office of the Chief Counsel, Attn: Rule Docket (AGC-200), Petition Docket No. ___, 800 Independence Avenue, SW., Washington, DC 20591.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Forest Rawls (202) 267-8033, or Vanessa Wilkins (202) 267-8029 Office of Rulemaking (ARM-1), Federal Aviation Administration, 800 Independence Avenue, SW., Washington, DC 20591.

This notice is published pursuant to sections 11.85 and 11.91 of part 11 of the Federal Aviation Regulations (14 CFR part 11).

Issued in Washington, DC, on October 13, 2000.
Donald P. Byrne,
Assistant Chief Counsel for Regulations.

Dispositions of Petitions

Petitioner: American Airlines, Inc.

[Docket No.: 18324]

Section of the 14 CFR Affected: 14 CFR §§ 43.3(a) and 121.709(b)(3)

Description of Relief Sought/Disposition: To permit American to allow its properly trained and certificated flight engineers to stow passenger supplemental oxygen masks during flight and to make the appropriate entry in the aircraft maintenance logbook. Grant, 10/02/00, Exemption No. 2678L.

Petitioner: Chromalloy Gas Turbine Corporation

[Docket No.: 28557]

Section of the 14 CFR Affected: 14 CFR §§ 43.9(a)(4), 43.11(a)(3), and 145.57(a)

Description of Relief Sought/Disposition: To permit Chromalloy and other persons holding return-to-service authority under the relevant, respective Inspection Procedures Manuals (IPMs) to use electronic signatures in lieu of physical signatures to satisfy the signature requirements of FAA Form 8130-3, Airworthiness Approval Tag. Grant, 09/29/00, Exemption No. 6513B.

Petitioner: MD Helicopters, Inc.

[Docket No.: 30085]

Section of the 14 CFR Affected: 14 CFR § C36.105(c)(1)

Description of Relief Sought/Disposition: To permit an additional alternative flyover airspeed criteria for use in the 14 CFR part 36 (part 36) noise certification. The petitioner is requesting the alternative level flyover reference airspeed by 90 percent of the never-exceed airspeed, (0.9 VNE), for the Model MD900 helicopter noise certification. Grant, 09/27/00, Exemption No. 7360.

Petitioner: All West Freight, Inc.

[Docket No.: 30182]

Section of the 14 CFR Affected: 14 CFR § 135.143(c)(2)

Description of Relief Sought/Disposition: To permit All West to operate certain aircraft under part 135 without a TSO-C112 (Mode S) transponder installed in the aircraft. Grant, 09/26/00, Exemption No. 7358.

Petitioner: David J. Wilder dba Lake and Peninsula Airlines, Inc.

[Docket No.: 30181]

Section of the 14 CFR Affected: 14 CFR § 135.143(c)(2)

Description of Relief Sought/Disposition: To permit LPAI to operate certain aircraft under part 135 without a TSO-C112 (Mode S) transponder installed in the aircraft. Grant, 09/26/00, Exemption No. 7357.

Petitioner: Chautauqua Airlines, Inc.

[Docket No.: 29182]

Section of the 14 CFR Affected: 14 CFR § 121.434(c)(1)(ii)

Description of Relief Sought/Disposition: To permit Chautaugua to substitute a qualified and authorized check airman in place of an FAA inspector to observe a qualifying PIC who is completing initial or upgrade training specified in § 121.424 during at least one flight leg that includes a takeoff and a landing. Grant, 09/22/00, Exemption No. 7353.

[FR Doc. 00-26831 Filed 10-18-00; 8:45 am]

BILLING CODE 4910-13-M